DEPARTMENT OF JUSTICE

Office of Justice Programs

[OJP (NIJ) Docket No. 1551]

National Institute of Justice Offender Tracking System Standard Workshop

AGENCY: National Institute of Justice, DOJ.

ACTION: Notice of Meeting of the NIJ Offender Tracking System Standard Workshop.

SUMMARY: The National Institute of Justice (NIJ) is hosting an Officer Tracking System Standard Workshop specifically to introduce manufacturers, certification bodies and test laboratories to the new Offender Tracking System Standard that is under development and to receive input and feedback. All participants are strongly encouraged to come prepared to ask questions and to voice suggestions and concerns.

The workshop will be held on Thursday, May 12, 2011 from 9 a.m. to 3 p.m. (EST) at the 20 F Street, NW., Conference Center, located at 20 F Street, NW., Washington, DC 20001-6701. The meeting room is the Conference Room B. Space is limited at this workshop, and as a result, we request that each participating organization limit their representatives to no more than two. Participants planning to attend are responsible for their own travel arrangements and lodging.

Please visit the Web site below to submit your registration request: http://www.justnet.org/Documents/NIJ-Offender-Tracking-System-Standard-Workshop-Registration-Form.pdf You will receive a response to your request within two (2) business days.

FOR FURTHER INFORMATION CONTACT: Jack Harne, by telephone at 202-616-2911 [Note: this is not a toll-free telephone number], or by e-mail at Jack.Harne@usdoj.gov.

John H. Laub,
Director, National Institute of Justice.

[FR Doc. 2011-9903 Filed 4-22-11; 8:45 am]

BILLING CODE 4410-18-P